ENVIRONMENTAL PROTECTION AGENCY

[FRL -7225-1]

EPA Science Advisory Board, Metals Assessment Panel; Request for Nominations

ACTION: Notice; request for nominations to serve on the Metals Assessment Panel of the Environmental Protection Agency's Science Advisory Board.

SUMMARY: The U.S. Environmental Protection Agency's (Agency, EPA) Science Advisory Board (SAB) is re-announcing the formation of a Metals Assessment Panel and its solicitation of nominations of qualified individuals to serve on this Panel. An earlier solicitation of nominations for qualified individuals was published April 3, 2002 in the Federal Register (67 FR 15802).

The SAB provides independent scientific and technical advice to the EPA Administrator on Agency positions; in this case, the SAB will advise on a Metals Action Plan that the Agency will use to guide the development of a Framework and Guidance for assessing hazards and risks posed by metals and metal compounds. Those selected to serve on the SAB's Metals Assessment Panel will review the Action Plan this summer. The same Panel is also likely to review the Framework and Guidance Documents in 2003.

The approved policy under which the EPA Science Advisory Board selects review panels is described in a recent SAB Commentary [EPA Science Advisory Board (SAB) Panel Formation Process: Immediate Steps to Improve Policies and Procedures—An SAB Commentary (EPA-SAB-EC-COM-002-003), which can be found on the SAB website (http://www.epa.gov/sab) at http://www.epa.gov/sab/ecm02003.pdf.]

Because the Agency plans to make a draft of the review document available for public comment in early June (via separate FR Notice), we are taking advantage of this opportunity for further public input on our panel development process. The overlapping nomination period and public availability of the draft document should inform the public and help them understand the issues to be addressed as they suggest potential candidates for the Metals Assessment Panel. As a result, the SAB is re-opening the nomination process for fifteen calendar days. However, we do not intend to delay the nomination process beyond that stated in this notice, even if the public release of the review document is delayed.

If any individual or organization requires additional time to submit a nomination, a short extension may be granted by the SAB Staff, at their discretion. However, it will not delay the nomination process beyond the time stated in this notice plus two days. The extra days will be granted to any individual or organization needing an additional day or two provided that they contact the SAB staff within ten calendar days of this announcement to request that extension.

Any interested person or organization may nominate qualified individuals for membership on the Panel. Persons and organizations who nominated individuals in response to the solicitation published April 3, 2002 in the Federal Register (67 FR 15802) do not need to renew their nomination, however, nominators should confirm that their nomination has been received by the SAB Staff. Staff contact information is provided below.

Nominations (preferably in electronic format) must include the individual's name, occupation, position, qualifications to address the issue, and contact information (i.e., telephone number, fax number, mailing address, email, and/or Website). To be considered, all nominations must include a current bio, CV or resume (preferably electronic in MSWord or WordPerfect) providing information on the nominee's background, experience, and qualifications for this Panel.

The SAB staff asks that nominations be provided in the following way:

(1) Send the nomination by email to: lubarov-walton.zisa@epa.gov.

(2) Use one email per person being nominated.

(3) Please use “Metals Nomination” in the subject field, followed by the last name of the candidate you are nominating. (For example, “Metals Nomination: Smith).

(4) Attach supporting information in MS Word or WordPerfect files ending in “.doc” or “.wpd”.

(5) In a separate file from the bio, CV or resume, please provide the following information in the order shown:

For the Nominating Individual

First Name:

Last Name:

Email Address:

Organization Title:

Mailing Address:

Work Phone:

Work Fax:

For the Candidate Being Nominated

First Name:

Last Name:

Professional Title:

Department:

School or Unit:

University or Organization:

Mailing Address:

Work Phone:

Fax Work Phone:

Email Address:

Website for CV (if one exists):

Nominator's Assessment of Expertise: The following areas of expertise will be useful in this review. Please indicate the areas of expertise the candidate could contribute:

1. Toxicology of metals in humans.

2. Toxicology of metals in the environment, especially expertise in aquatic and terrestrial environments.

3. Behavior, transport and fate of metals in the environment.

4. Risk assessment of metals.

5. Risk assessment frameworks, whether of metals or other stressors.

6. Technical issues arising in efforts to reduce the risks of metals in regulatory or non-regulatory programs.

7. Expertise on individual metals—please identify which metals.

Background: There has been considerable interest in the scientific assessments that the Agency conducts on metals and metal compounds. Discussions between the Agency and external stakeholders, as well as concerns expressed formally as part of the Toxics Release Inventory (TRI) lead rulemaking, have demonstrated the need for a more comprehensive, cross-Agency approach to metals assessments that can be applied to human health and ecological assessments. Therefore, the Agency is developing a Framework and Guidance for EPA programs to use when considering the various environmental properties of metals, such as persistence, bioaccumulation and toxicity, in assessing the hazards and risks of metals and metal compounds. As a first step in accomplishing this goal, the Agency is developing an Action Plan that

(a) Identifies the primary elements to be addressed in the assessment Framework and Guidance,

(b) Proposes a structure for the Framework and Guidance, and

(c) Sets out a process that will culminate in the production of the Framework and Guidance, per se.

Charge to the Panel: Details of the Charge may change as a result of discussions between the Agency and the Panel. Updates will be posted on the SAB Website: (www.epa.gov/sab). The current draft charge is:

1. Please comment on the soundness of the proposed organizing principles suggested by the public that are reflected in the draft Action Plan for the “Framework for Metals Assessment and Cross-Agency Guidance for Assessing Metals-Related Hazard and Risk.” (The proposed organizing principles, listed in section 1 of the draft Action Plan, include the following: providing a basis for identifying and prioritizing among metals, metal alloys and other metal compounds with respect to hazard and risk, use of sound science, use of a tiered approach, recognition of the influence of bioavailability on toxicity, and initially focus on hazard assessment as a screening tool.)

2. Are the issues raised in the Action Plan—chemical speciation, bioavailability, bioaccumulation, persistence, and toxicity—the major issues of concern for improving EPA's scientific assessments of the hazards and risks of metals?

3. Has EPA adequately characterized the issues and do the summaries adequately capture the key scientific uncertainties that will need to be addressed by the Framework and the Guidance.

4. Can the SAB suggest priorities within the list of issues based on (a) the potential impact on the assessment of risk or hazard and (b) the state-of-the-science and the feasibility of developing guidance in the near term?

5. Are there specific recommendations for the Framework or for the “Guidance for Characterization and Ranking of Metals” (including methods and models) for addressing these issues that are not captured by EPA's Action Plan?

6. Please comment on the feasibility of the proposed process for drafting the Framework and the Guidance. Will the timeline allow for the scientific issues to be adequately addressed. Are the measures being taken to involve the scientific community and the public adequate?

7. Please comment on the outline for the Framework and the description of the Guidance. Is it clear and all-inclusive?

8. Are there any additional actions, beyond those proposed in the Action Plan that could improve EPA's scientific assessments of the hazard and risks of metals?

FOR FURTHER INFORMATION CONTACT: Nominations in electronic format should be submitted to lubarov-walton.zisa@epa.gov. Anyone unable to submit in electronic format should send the nomination paperwork to Ms. Zisa Lubarov-Walton, Management Assistant, EPA Science Advisory Board, U.S. Environmental Protection Agency (1400A), 1200 Pennsylvania Avenue, NW, Washington, DC 20460, telephone (202) 564-4537; FAX (202) 501-0323. Nominations should arrive no later than June 21, 2002, unless arrangements for a one or two day extension have been made by June 17, 2002, with Ms. Kathleen White, Designated Federal Officer, EPA Science Advisory Board, U.S. Environmental Protection Agency (1400A), 1200 Pennsylvania Avenue, NW, Washington, DC 20460, telephone (202) 564-4559; FAX (202) 501-0323, email: white.kathleen@epa.gov. The SAB will not necessarily formally acknowledge or respond to nominations.

The nominations received through this solicitation will be combined with nominations obtained through the previous nomination solicitation (67 FR 15802; April 3, 2002) and other sources; e.g., the Agency, SAB members, and external outreach. From this larger group of nominees (termed the “WIDECAST”), a smaller subset (the “Short List”) will be identified for more detailed consideration. The Short List will include the names of candidates, a short biosketch of each candidate, and the names of those who nominated them. The Short List will be posted on the SAB Website (http://www.epa.gov/sab/fiscal02.htm) and public comments accepted on the expertise, conflict-of-interest, and apparent lack of impartiality (as defined by federal regulation) of individual candidates as well as on the overall balance of views represented on the Panel. At the SAB, a balanced panel is characterized by inclusion of the necessary domains of knowledge, the relevant scientific perspectives (which, among other factors can be influenced by work history and affiliation), and the collective breadth of experience to address the charge adequately.

Public reaction to the Short List candidates will be considered in the selection of the Panel, along with information provided by candidates and information gathered by SAB Staff independently on the background of each candidate. Criteria to be used in evaluating an individual panelist include: (a) Expertise, knowledge, and experience (primary factors); (b) Availability and willingness to serve; (c) Scientific credibility and impartiality; and (d) Skills working in committees and advisory panels.

Panel members will be asked to attend at least one public face-to-face meeting and, probably, several public conference call meetings over the anticipated 3-month course of the activity. The Executive Committee (EC) of the SAB will review the Panel's report in a public meeting and reach a judgment about its transmittal to the Administrator.

General Information—Additional information concerning the Science Advisory Board, its structure, function, and composition, may be found on the SAB Website (http://www.epa.gov/sab) and in the EPA Science Advisory Board FY2001 Annual Staff Report which is available from the SAB Publications Staff at (202) 564-4533 or via fax at (202) 501-0256, or at http://www.epa.gov/sab/annreport01.pdf.

Dated: May 31, 2002.
A. Robert Flaak,
Acting Staff Director, EPA Science Advisory Board.

[FR Doc. 02-14043 Filed 6-5-02; 8:45 am]

BILLING CODE 6560-50-P